DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alaska:
Sitka (FEMA Docket No.: B-1319) | City and Borough of Sitka (13-10-0358P) | The Honorable Mim McConnell, Mayor, City and Borough of Sitka, 100 Lincoln Street, Sitka, AK 99835 | 100 Lincoln Street, 1st Floor, Sitka, AK 99835 | June 26, 2013 | 020006
California:
Santa Barbara (FEMA Docket No.: B-1327) | City of Lompoc (13-09-0272P) | The Honorable John Linn, Mayor, City of Lompoc, 100 Civic Center Plaza, Lompoc, CA 93436 | 100 Civic Center Plaza, Lompoc, CA 93436 | July 31, 2013 | 060334
Idaho:
Ada, (FEMA Docket No.:, B-1327) | Unincorporated areas of Ada County, (13-10-0375P) | The Honorable Dave Case, Chairman, Ada County Board of Commissioners, 200 West Front Street, 3rd Floor, Boise, ID 83702 | 200 West Front Street, Boise, ID 83702 | August 15, 2013 | 160001
Blaine (FEMA Docket No.: B-1327) | Unincorporated areas of Blaine County (13-10-0554P) | The Honorable Angenie McCleary, Chairman, Blaine County Board of Commissioners, 206 1st Avenue South, Suite 300, Hailey, ID 83333 | Blaine County Planning and Zoning, 219 1st Avenue South, Suite 208, Hailey, ID 83333 | August 15, 2013 | 165167
Illinois:
Peoria (FEMA Docket No.: B-1327) | City of Peoria (12-05-5395P) | The Honorable Jim Ardis, Mayor, City of Peoria, 419 Fulton Street, Room 207, Peoria, IL 61602 | Peoria City Hall, Public Works Department, 419 Fulton Street, Room 307, Peoria, IL 61602 | August 9, 2013 | 170536
McLean (FEMA Docket No.: B-1327) | Town of Normal (11-05-4448P) | The Honorable Chris C. Koos, Mayor, Town of Normal, 100 East Phoenix Avenue, Normal, IL 61761 | City of Public Works Department, 211 South Linden Street, Normal, IL 61761 | August 16, 2013 | 170502
Dupage (FEMA Docket No.: B-1327) | Village of Glen Ellyn (13-05-2368P) | The Honorable Mark Pfefferman, Village President, Village of Glen Ellyn, 535 Duane Street, Glen Ellyn, IL 60137 | Village Hall, 535 Duane Street, Glen Ellyn, IL 60137 | August 2, 2013 | 170207
Will (FEMA Docket No.: B-1327) | Village of Romeoville (12-05-1759P) | The Honorable John D. Noak, Mayor, Village of Romeoville, 1050 West Romeo Road, Romeoville, IL 60446 | Village Hall, 1050 West Romeo Road, Romeoville, IL 60446 | July 19, 2013 | 170711
Will (FEMA Docket No.: B-1327) | Unincorporated areas of Will County (12-05-1759P) | The Honorable Lawrence M. Walsh, County Executive, Will County, 302 North Chicago Street, Joliet, IL 60432 | Will County Land Use, 58 East Clinton Street, Suite 500, Joliet, IL 60432 | July 19, 2013 | 170695
Boone and Winnebago (FEMA Docket No.: B-1319) | City of Loves Park (12-05-6395P) | The Honorable Darryl F. Lindberg, Mayor, City of Loves Park, 100 Heart Boulevard, Loves Park, IL 61111 | Loves Park Development Public Works Department, 100 Heart Boulevard, Loves Park, IL 61111 | June 19, 2013 | 170722
Kane (FEMA Docket No.: B-1319) | Village of North Aurora (13-05-0140P) | The Honorable Dale Berman, Village President, Village of North Aurora, 25 East State Street, North Aurora, IL 60542 | North Aurora Village Hall, Building and Zoning Division, 25 East State Street, North Aurora, IL 60542 | June 26, 2013 | 170329
Iowa:
Hardin (FEMA Docket No.: B-1319) | City of Iowa Falls, (12-07-3261P) | The Honorable Jerry Welden, Mayor, City of Iowa Falls, 315 Stevens Street, Iowa Falls, IA 50126 | 315 Stevens Street, Iowa Falls, IA 50126 | June 20, 2013 | 190140
Hardin (FEMA Docket No.: B-1319) | Unincorporated areas of Hardin County, (12-07-3261P) | The Honorable Brian Lauterbach, Chair, Hardin County Board of Supervisors, 1215 Edington Avenue, Suite 1, Eldora, IA 50627 | 1215 Edgington Avenue, Suite 2, Eldora, IA 50627 | June 20, 2013 | 190874
Kansas:
McPherson (FEMA Docket No.: B-1319) | Unincorporated areas of McPherson County, (12-07-2666P) | The Honorable Ron Loomis, Chairman, McPherson County Commission, 117 North Maple, McPherson, KS 67460 | 117 North Maple, McPherson, KS 67460 | June 24, 2013 | 200214
McPherson (FEMA Docket No.: B-1319) | City of Galva (12-07-2666P) | The Honorable H. Wayne Ford, Mayor, City of Galva, 208 South Main, Galva, KS 67443 | 208 South Main, Galva, KS 67443 | June 24, 2013 | 200497
Michigan:
Macomb (FEMA Docket No.: B-1327) | Township of Macomb (12-05-7428P) | The Honorable Janet I. Dunn, Supervisor, Macomb Township, 54111 Broughton Road, Macomb, MI 48042 | 54111 Broughton Road, Macomb, MI 48042 | August 16, 2013 | 260445
Minnesota:
Steele (FEMA Docket No.: B-1327) | City of Owatonna (12-05-7769P) | The Honorable Thomas A. Kuntz, Mayor, City of Owatonna, 540 West Hills Circle, Owatonna, MN 55060 | 540 West Hills Circle, Owatonna, MN 55060 | July 26, 2013 | 270463
Olmsted (FEMA Docket No.: B-1327) | City of Rochester (13-05-0422P) | The Honorable Ardell F. Brede, Mayor, City of Rochester, 201 4th Street Southeast, Room 281, Rochester, MN 55904 | 2122 Campus Drive Southeast, Suite 100, Rochester, MN 55904 | July 26, 2013 | 275246
Olmsted (FEMA Docket No.: B-1327) | Unincorporated areas of Olmsted County (13-05-0422P) | The Honorable Jim Bier, Chairperson, Olmsted County Board of Commissioners, 151 4th Street Southeast, Rochester, MN 55904 | 2122 Campus Drive Southeast, Suite 100, Rochester, MN 55904 | July 26, 2013 | 270626
Missouri:
Pulaski (FEMA Docket No.: B-1327) | Unincorporated areas of Pulaski County (13-07-0592P) | The Honorable Gene Newkirk, Presiding Commissioner, Pulaski County, 301 Historic 66 East, Suite 101, Waynesville, MO 65583 | 301 Historic 66 East, Suite 101, Waynesville, MO 65583 | July 22, 2013 | 290826
Nebraska:
Colfax (FEMA Docket No.: B-1327) | Village of Leigh (12-07-2322P) | The Honorable Larry Fuhr, Chairman, Leigh Village Board, P.O. Box 277, Leigh, NE 68643 | 109 Short Street, Leigh, NE 68643 | July 25, 2013 | 310386
Colfax (FEMA Docket No.: B-1327) | Unincorporated areas of Colfax County (12-07-2322P) | The Honorable Jerry Heard, Chairman, Colfax County Board of Commissioners, P.O. Box 435, Schuyler, NE 68641 | 411 East 11th Street, Schuyler, NE 68661 | July 25, 2013 | 310426
Platte (FEMA Docket No.: B-1327) | Unincorporated areas of Platte County (12-07-2322P) | The Honorable Jerry Micek, Chairman, Platte County Board of Commissioners, 2610 14th Avenue, Columbus, NE 68601 | 2610 14th Street, Columbus, NE 68601 | July 25, 2013 | 310467
Ohio:
Cuyahoga (FEMA Docket No.: B-1319) | City of Lyndhurst (12-05-7754P) | The Honorable Joseph M. Cicero, Jr., Mayor, City of Lyndhurst, 5301 Mayfield Road, Lyndhurst, OH 44124 | 5301 Mayfield Road, Lyndhurst, OH 44124 | July 5, 2013 | 390113
Oregon:
Marion (FEMA Docket No.: B-1319) | City of Salem (12-10-1472P) | The Honorable Anna M. Peterson, Mayor, City of Salem, 555 Liberty Street Southeast, Room 220, Salem, OR 97301 | 555 Liberty Street Southeast, Room 305, Salem, OR 97301 | June 21, 2013 | 410167
Marion (FEMA Docket No.: B-1319) | Unincorporated areas of Marion County (12-10-1472P) | The Honorable Janet Carlson, Chair, Marion County Board of Commissioners, 451 Division Street, Northeast, Salem, OR 97301 | Marion County Public Works, Planning and Zoning, 5155 Silverton Road Northeast, Salem, OR 97305 | June 21, 2013 | 410154
Wisconsin:
Kenosha (FEMA Docket No.: B-1319) | Village of Bristol (12-05-7434P) | The Honorable Mike Farrell, Village President, Village of Bristol, 19801 83rd Street, Bristol, WI 53104 | 19801 83rd Street, Bristol, WI 53104 | June 20, 2013 | 550595
Kenosha (FEMA Docket No.: B-1319) | Village of Pleasant Prairie (12-05-7434P) | The Honorable John Steinbrink, Village President, Village of Pleasant Prairie, 8640 88th Avenue, Pleasant Prairie, WI 53158 | 9915 39th Avenue, Pleasant Prairie, WI 53158 | June 20, 2013 | 550613
Chippewa (FEMA Docket No.: B-1327) | City of Bloomer (13-05-0677P) | The Honorable Randy Summerfield, Mayor, City of Bloomer, 1503 Main Street, Bloomer, WI 54724 | 1503 Main Street, Bloomer, WI 54724 | August 14, 2013 | 550042
Chippewa (FEMA Docket No.: B-1327) | Unincorporated areas of Chippewa County (13-05-0677P) | The Honorable Paul Michels, Chairman, Chippewa County Board of Supervisors, 711 North Bridge Street, Chippewa Falls, WI 54729 | 711 North Bridge Street, Room 9, Chippewa Falls, WI 54729 | August 14, 2013 | 555549
Wyoming:
Fremont (FEMA Docket No.: B-1327) | Town of Dubois (13-08-0063P) | The Honorable Twila Blakeman, Mayor, Town of Dubois, 712 Meckem Street, Dubois, WY 82513 | 712 Meckem Street, Dubois, WY 82513 | August 9, 2013 | 560018
Fremont (FEMA Docket No.: B-1327) | Unincorporated areas of Fremont County, (13-08-0063P) | The Honorable Douglas L. Thompson, Chairman, Fremont County Board of Commissioners, 450 North 2nd Street, Lander, WY 82520 | 450 North 2nd Street, Room 360, Lander, WY 82520 | August 9, 2013 | 560080

(Catalog of Federal Domestic Assistance No. 97.022, “Flood Insurance.”)

Dated: July 26, 2013.
Roy E. Wright,
Deputy Associate Administrator for Mitigation, Department of Homeland Security, Federal Emergency Management Agency.

[FR Doc. 2013-19323 Filed 8-8-13; 8:45 am]

BILLING CODE 9110-12-P